DEPARTMENT OF ENERGY

Federal Energy Regulatory Commission

[Docket No. PR03-11-000]

Enbridge Pipelines (Louisiana Intrastate) LLC; Notice of Petition for Rate Approval

March 28, 2003.

Take notice that on March 19, 2003, Enbridge Pipelines (Louisiana Intrastate) LLC (Enbridge), formerly Creole Gas Pipeline Corporation, filed, pursuant to section 311 of the Natural Gas Policy Act and § 284.123(b)(2) of the Commission's regulations, a petition for rate approval requesting a maximum interruptible transportation rate of $0.1652 per Dth, plus an in-kind fuel rate of 2.25%.

Pursuant to § 284.123(b)(2)(ii), if the Commission does not act within 150 days of the date of this filing, the rates will be deemed to be fair and equitable and not in excess of an amount which interstate pipelines would be permitted to charge for similar transportation service. The Commission may, prior to the expiration of the 150 day period, extend the time for action or institute a proceeding to afford parties an opportunity for written comments and for the oral presentation of views, data, and arguments.

Any person desiring to participate in this rate proceeding must file a motion to intervene or protest with the Federal Energy Regulatory Commission, 888 First Street, NE., Washington DC 20426, in accordance with §§ 385.214 or 385.211 of the Commission's Rules and Regulations. All such motions or protests must be filed with the Secretary of the Commission on or before the comment date. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the “FERRIS” link. Enter the docket number excluding the last three digits I the docket number field to access the document. For Assistant, call (202) 502-8222 or for TTY, (202) 502-8659. Comments, protests and interventions may be filed electronically via the Internet in lieu of paper. The Commission strongly encourages electronic filings.See 18 CFR 385.2001(1)(iii) and the instructions on the Commission's Web site under the “e-Filing” link.

Comment Date: April 17, 2003.

Magalie R. Salas,
Secretary.

[FR Doc. 03-8093 Filed 4-2-03; 8:45 am]

BILLING CODE 6717-01-P